DEPARTMENT OF LABOR

Employment and Training Administration

[TA-W-80,525]

Long Elevator & Machine Company, Inc., Including Workers Whose Wages Were Reported Through Kone, Inc., Riverton, IL; Notice of Negative Determination on Reconsideration

On May 21, 2012, the Department of Labor issued an Affirmative Determination Regarding Application for Reconsideration for workers and former workers of Long Elevator & Machine Company, Inc., including workers whose wages were reported through Kone, Inc., Riverton, Illinois (hereafter referred to as Long Elevator & Machine Company or the subject firm). The Department's Notice was published in the Federal Register on June 6, 2012 (77 FR 33490). The workers' firm was engaged in activities related to the supply of elevator production and repair services. The subject worker group was engaged in activities related to the supply of elevator repair services, which included production of repair parts (elevator component parts).

Pursuant to 29 CFR 90.18(c), reconsideration may be granted under the following circumstances:

(1) If it appears on the basis of facts not previously considered that the determination complained of was erroneous;

(2) If it appears that the determination complained of was based on a mistake in the determination of facts not previously considered; or

(3) If in the opinion of the Certifying Officer, a mis- interpretation of facts or of the law justified reconsideration of the decision.

The initial investigation resulted in a negative determination based on no shift in production of elevator component parts to a foreign country and no increased imports of elevator component parts (or like or directly competitive articles). Rather, the supply of elevator repair services and production of elevator components at the subject firm was consolidated to another facility within the United States by the parent company, Kone, Inc.

In the request for reconsideration, a worker alleged that the subject firm's parent company had shifted abroad the production of articles like or directly competitive with those produced at the subject firm facility of Long Elevator & Machine Company.

During the reconsideration investigation, the Department clarified information provided by workers, sought confirmation of previously-submitted information from the subject firm, and obtained new information from the subject firm.

Information obtained during the reconsideration investigation confirmed that neither the subject firm nor its parent company shifted to (or acquired from) a foreign country the production of articles like or directly competitive with the elevator component parts produced by the subject workers and that neither the subject firm nor its parent company shifted to (or acquired from) a foreign country the supply of services like or directly competitive with the repair services supplied by the subject workers.

Because each component part is specific to an elevator and the replacement parts produced at the Riverton, Illinois facility are for existing elevators, the component parts used in new elevators are not directly competitive with those for repaired elevators.

Although Kone, Inc. has facilities abroad which produce new elevators for installation, elevators are not like or directly competitive with elevator parts because component parts are not like or directly competitive with finished articles (elevators). The subject firm confirmed that component parts which are like or directly competitive with those formerly produced at the Riverton, Illinois facility are produced at other domestic facilities.

Therefore, after careful review of existing information, the request for reconsideration, and new information obtained during the reconsideration investigation, the Department determines that 29 CFR 90.18(c) has not been met.

Conclusion

After careful reconsideration, I affirm the original notice of negative determination of eligibility to apply for worker adjustment assistance for workers and former workers of Long Elevator & Machine Company, Inc., including workers whose wages were reported through Kone, Inc., Riverton, Illinois.

Signed in Washington, DC on this 27th day of September, 2012.
Del Min Amy Chen,
Certifying Officer, Office of Trade Adjustment Assistance.

[FR Doc. 2012-25134 Filed 10-11-12; 8:45 am]

BILLING CODE 4510-FN-P